DEPARTMENT OF HEALTH AND HUMAN SERVICES

Centers for Disease Control and Prevention

[60 Day-02-25]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Pretest for the Canada/U.S. Joint Health Survey (CUJHS Pretest)—New—National Center for Health Statistics (NCHS), Centers for Disease Control and Prevention (CDC). A pretest is planned to test and evaluate the joint survey data collection system. This involves five major areas: (1) Sample integration, (2) case management (3) the CATI system, (4) questionnaire design, and (5) comparability across the three languages. This involves five major areas: (1) Sample integration, (2) case management (3) the CATI system, (4) questionnaire design, and (5) comparability across the three languages. The sample integration involves screening for eligibility and selection of sample respondents. The CATI system requires testing the instrument's ability to check whether a response is within a legitimate range, to follow skip patterns, to fill country-specific information in questions as applicable, and to employ pick lists for response categories. Case management involves correct classification of survey responses, quality control, and interviewer monitoring. Questionnaire design review checks for problems in concepts, flow, order and content of questions and answers. The comparability and accuracy of the English, French and Spanish versions of the questionnaire will be carefully assessed.

The Canada/U.S. Joint Health Survey (CUJHS) is a one-time collaborative effort of Statistics Canada and the U.S. National Center for Health Statistics to conduct a telephone survey in both countries using the same questionnaire. Approximately 3,000 adults will be interviewed in Canada and 5,000 adults in the U.S. The questionnaire will cover chronic health conditions, functional status and limitations, smoking, height and weight, cancer screening, access to health care, and demographics.

The project will be jointly funded with each agency covering the costs of data collection of their own sample and the sharing of all other costs. The purpose of the survey is to move the national health surveys of both countries toward closer comparability so the health status among residents of countries can be compared in a more concrete manner. This will allow researchers to study the effect of variations in health systems on health care, health status and functional status. This effort can also serve as a model for improving comparability among national health studies generally.

A need for such comparability has been noted by the World Health Organization, the Centers for Disease Control and Prevention and the Robert Wood Johnson Foundation who is funding the study in part. The specific data from the CUJHS may well contribute toward meeting some of the research needs directly. Its longer term impact will be to demonstrate best practices for use in bi-national and multi-national health surveys. There is no cost to respondents other than their time.

Respondents | Number of respondents | Number of responses/respondent | Avg. burden response (in hours) | Total burden (in hours)
United States | 100 | 1 | 20/60 | 33
Total |  |  |  | 33

Dated: February 1, 2002.
Julie Fishman,
Acting Associate Director for Policy, Planning and Evaluation, Centers for Disease Control and Prevention.

[FR Doc. 02-3150 Filed 2-8-02; 8:45 am]

BILLING CODE 4163-18-P